DEPARTMENT OF HEALTH AND HUMAN SERVICES

Centers for Disease Control and Prevention

[60Day-07-06BV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Travel-Related Infectious Diseases Risk Perception, Prevention Measures, and Behaviors during Travel to Latin America Visiting Friends and Relatives (VFR) versus non-VFR Travelers—New—National Center for Infectious Diseases (NCID)—Centers for Disease Control and Prevention (CDC).

Background and Brief Description

The proposed project will focus on travelers visiting friends and relatives (VFR) in Latin America. An estimated 44% of all international travel is VFR related. Although multiple definitions exist, VFR travelers typically refer to those who were born in a resource-poor country, now living in a resource-rich country, and returning to their country of birth to visit friends and relatives. VFR travelers have received particular attention recently for being at higher risk than other travel groups for acquiring communicable diseases during visit to their home countries. However, there are few studies that characterize and explore this health disparity between VFR and non-VFR travelers.

The proposed study would be the first to focus on travel-related health risks in U.S resident VFR and non-VFR travelers to Latin America. The study objectives are to characterize and understand the health disparities between VFR and non-VFR travelers to Latin America by comparing (1) pre-travel health preparations, (2) perceived susceptibility and severity to travel-related communicable diseases, (3) health-risk behaviors during travel, and (4) compliance with prevention measures during travel.

Knowledge gained from this study will enable CDC to develop targeted, theory-driven infectious diseases prevention messages, both pre-travel and during travel, that will be specific to subpopulations of travelers (VFR versus non-VFR). Expected outcomes of targeted messaging include reducing

• The burden of illness among travelers,

• the importation of communicable diseases into the U.S., and

• the global spread of infectious diseases.

The proposed study will provide departing airport passengers with a self-administered 35-item questionnaire and a follow-up telephone questionnaire four weeks after their return. There is no cost to the respondent other than their time.

Estimated Annualized Burden Hours
Respondents | Number of respondents | Number of responses/ respondent | Average burden/response (in hours) | Total burden hours
Screener Interview | 2800 | 1 | 5/60 | 233
Self-Administered | 700 | 1 | 15/60 | 175
Telephone Interview | 490 | 1 | 10/60 | 82
Total |  |  |  | 490

Dated: November 8, 2006.
Joan F. Karr,
Acting Reports Clearance Officer, Centers for Disease Control and Prevention.

[FR Doc. E6-19262 Filed 11-14-06; 8:45 am]

BILLING CODE 4163-18-P